DEPARTMENT OF THE INTERIOR

National Park Service

[NPS-WASO-NRNHL-20036; PPWOCRADI0, PCU00RP14.R50000]

National Register of Historic Places; Notification of Pending Nominations and Related Actions

AGENCY: National Park Service, Interior.

ACTION: Notice.

SUMMARY: The National Park Service is soliciting comments on the significance of properties nominated before December 19, 2015, for listing or related actions in the National Register of Historic Places.

DATES: Comments should be submitted by February 1, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before December 19, 2015. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

COLORADO

Phillips County

Harms Farm, (Phillips County, Colorado MPS), Cty. Rd. 21 between Cty. Rds. 30 & 32, Haxtun, 15001010

Oltjenbruns Farm, (Phillips County, Colorado MPS), Cty. Rd. 49 between CO 23 & Cty. Rd. 34, Amherst, 15001011

GEORGIA

Gordon County

New Echota, Address Restricted, Calhoun, 15001012

LOUISIANA

Orleans Parish

Meyer, Adolph, School, 2013 General Meyer Ave., New Orleans, 15001013

U.S. Army Supply Base New Orleans, 4400 Dauphine St., New Orleans, 15001014

Rapides Parish

Byram, J.E., House, 915 City Park Blvd., Alexandria, 15001015

MINNESOTA

Hennepin County

Bridge No. 90646, (Iron and Steel Bridges in Minnesota MPS), Wooddale Ave. over Minnehaha Cr., Edina, 15001016

MISSOURI

Cape Girardeau County

Broadway—Middle Commercial Historic District (Boundary Increase II), (Cape Girardeau, Missouri MPS) 600, 700 & 800 blks. of Broadway & 210 N. Ellis St., Cape Girardeau, 15001017

Jackson County

Heim, Ferd., Brewing Company Bottling Plant, 507 N. Montgall Ave., Kansas City, 15001018

St. Louis Independent city

American Furnace Company, 1300 Hampton Ave., St. Louis (Independent City), 15001019

NEVADA

Douglas County

It-goom-mum teh-weh-weh ush-shah-ish, Address Restricted, Dresslerville Washoe Indian Comm., 15001029

NEW JERSEY

Salem County

Wistar, John and Charlotte, Farm, 120 Harris Rd., Mannington Township, 15001021

Wister, Caspar & Rebecca, Farm, 84 Pointers—Auburn Rd., Mannington Township, 15001020

NEW YORK

Albany County

Conkling—Boardman—Eldridge Farm, 348 Albany Hill Rd., Rensselaerville, 15001022

Dutchess County

Bain, FR, House, 57 Montgomery St., Poughkeepsie, 15001023

Erie County

Fargo Estate Historic District, Portions of Fargo, Normal, Plymouth, Porter, Prospect & West Aves., Jersey & Pennsylvania Sts., Cobb Alley, Buffalo, 15001024

Sinclair, Rooney & Co. Building, 465 Washington St., Buffalo, 15001025

Rensselaer County

Wilbur—Campbell—Stephens Company Cuff and Collar Factory, 599 River St., Troy, 15001026

Suffolk County

Old Field Club and Farm, 86 W. Meadow Rd., East Setauket, 15001027

Quogue Historic District, Roughly along Quogue St., Quogue, 15001028

PENNSYLVANIA

Allegheny County

Pittsburgh Brass Manufacturing Company Building, 3147-3155 Penn Ave., Pittsburgh, 15001030

Salvation Army Building, The, 425-435 Boulevard of the Allies, Pittsburgh, 15001031

Fayette County

Temple Ohave Israel, 210 2nd St., Brownsville Borough, 15001032

Washington County

Nesbit—Walker Farm, (Agricultural Resources of Pennsylvania c1700-1960 MPS), 173 Mulberry Hill, Canton Township, 15001033

Plantation Plenty (Boundary Increase), (Agricultural Resources of Pennsylvania c1700-1960 MPS), 52 Manchester Ln., Independence Township, 15001034

Slusher, David, Farm, (Agricultural Resources of Pennsylvania c1700-1960 MPS), 546 Lone Pine Rd., Amwell Township, 15001035

Westmoreland County

Loyalhanna Lodge No. 275, 221 Spring St., Latrobe, 15001036

VERMONT

Chittenden County

Hinesburg Town Forest, Hayden Hill Rd., Hinesburg, 15001037

VIRGINIA

Fauquier County

Oakwood, 7433 Oakwood Dr., Warrenton, 15001038

Loudoun County

Oakham Farm, 23226 Oakham Farm Ln., Middleburg, 15001039

Nelson County

Riverside Farm, 6840 Patrick Henry Hwy., Roseland, 15001040

Norfolk Independent city

Talbot Hall, 600 Talbot Hall Rd., 6601 Caroline St., 6651 Talbot Hall Ct., Norfolk (Independent City), 15001041

Rappahannock County

Ben Venue Rural Historic District, Ben Venue Rd., Williams Farm, Fogg Mountain, Hickerson Mountain and Points of View Lns., Flint Hill, 15001042

Richmond Independent city

Byrd Park Court Historic District, 701, 703, 735 Lake Rd., 705-733 Byrd Park Ct., Richmond (Independent City), 15001043

Byrd, William, Park, 600 South Blvd., Richmond (Independent City), 15001044

Carillon Neighborhood Historic District, Belmont, Blanton, Maplewood, Rendale & Sunset Aves., Carrolton, Condie, French, Garrett, Rueger & Sheppard Sts., Richmond (Independent City), 15001045

Jerman House, 24 Hampton Hills Ln., Richmond, 15001046

Rockbridge County

Natural Bridge Historic District, US 11 & VA 130, Natural Bridge, 15001047

WISCONSIN

Winnebago County

Fraternal Reserve Association, 105 Washington Ave., Oshkosh, 15001048

A request to move has been received for the following resource:

MINNESOTA

Meeker County

Bridge No. 5388, (Iron and Steel Bridges in Minnesota MPS) Wooddale Ave. over Minnehaha Cr., Kingston, 98000718

A request to remove has been received for the following resource:

CONNECTICUT

New London County

Ashland Mill Bridge, Over Pachaug R., near Ashland St., Griswold, 99000407

Authority: 60.13 of 36 CFR part 60

Dated: December 24, 2015.
J. Paul Loether,
Chief, National Register of Historic Places/National Historic Landmarks Program.

[FR Doc. 2016-00676 Filed 1-14-16; 8:45 am]

BILLING CODE 4312-52-P